SOCIAL SECURITY ADMINISTRATION

[Docket No. SSA-2018-0050]

Agreement on Social Security Between the United States and Uruguay; Entry Into Force

AGENCY: Social Security Administration (SSA).

ACTION: Notice.

SUMMARY: We are giving notice that an agreement coordinating the United States (U.S.) and Uruguayan social security programs effective on November 1, 2018. The Agreement with Uruguay, which was signed on January 10, 2017, is similar to U.S. social security agreements already in force with 27 other countries—Australia, Austria, Belgium, Brazil, Canada, Chile, the Czech Republic, Denmark, Finland, France, Germany, Greece, Hungary, Ireland, Italy, Japan, Korea (South), Luxembourg, the Netherlands, Norway, Poland, Portugal, the Slovak Republic, Spain, Sweden, Switzerland, and the United Kingdom. Section 233 of the Social Security Act authorizes agreements of this type.

Like the other agreements, the U.S.-Uruguayan Agreement eliminates dual social security coverage. This situation exists when a worker from one country works in the other country and has coverage under the social security systems of both countries for the same work. Without such agreements in force, when dual coverage occurs, the worker, the worker's employer, or both may be required to pay social security contributions to the two countries simultaneously. Under the U.S.-Uruguayan Agreement, a worker who is sent by an employer in one country to work in the other country for 5 or fewer years remains covered only by the sending country. The Agreement includes additional rules that eliminate dual U.S. and Uruguayan coverage in other work situations.

The Agreement also helps eliminate situations where workers suffer a loss of benefit rights because they have divided their careers between the two countries. Under the Agreement, workers may qualify for partial U.S. benefits or partial Uruguayan benefits based on combined (totalized) work credits from both countries.

Persons who wish to receive copies of the agreement or who want more information about its provisions may write to the Social Security Administration, Office of International Programs, Post Office Box 17741, Baltimore, MD 21235-7741 or visit the Social Security website at www.socialsecurity.gov/international. The full text of the agreement and its accompanying administrative arrangement are available at https://www.ssa.gov/international/Agreement_Texts/uruguay.html.

Nancy A. Berryhill,
Acting Commissioner of Social Security.

[FR Doc. 2018-23327 Filed 10-24-18; 8:45 am]

BILLING CODE 4191-02-P